DEPARTMENT OF COMMERCE

National Oceanic and Atmospheric Administration

RIN 0649-XC608

New England Fishery Management Council; Public Meeting

AGENCY: National Marine Fisheries Service (NMFS), National Oceanic and Atmospheric Administration (NOAA), Commerce.

ACTION: Notice of a public meeting.

SUMMARY: The New England Fishery Management Council (Council) will hold a three-day meeting on to consider actions affecting New England fisheries in the exclusive economic zone (EEZ).

DATES: The meeting will be held on Tuesday, Wednesday and Thursday, April 23-25, 2013 starting at 9 a.m. on Tuesday, and at 8:30 a.m. on both Wednesday and Thursday.

ADDRESSES: The meeting will be held at the Hilton Hotel, 20 Coogan Blvd., Mystic, CT 06355-1900; telephone: (860) 572-0731; fax: (860) 572-0328; or online at www.hiltonmystic.com.

Council address: New England Fishery Management Council, 50 Water Street, Mill 2, Newburyport, MA 01950; telephone: (978) 465-0492.

FOR FURTHER INFORMATION CONTACT: Thomas A. Nies, Executive Director, New England Fishery Management Council; telephone: (978) 465-0492.

SUPPLEMENTARY INFORMATION:

Tuesday, April 23, 2013

The New England Council will hold a closed session on Tuesday from 9 a.m. to 10 a.m. to address appointments to its Scientific and Statistical Committee. Following the closed session, the Chairman will make any necessary introductions and announcements. The Council will then receive brief reports from the NEFMC Chairman and Executive Director, NOAA Fisheries Regional Administrator, the Northeast Fisheries Science Center and Mid-Atlantic Fishery Management Council liaisons, as well as NOAA General Counsel, and representatives of the Atlantic States Marine Fisheries Commission, Coast Guard, and staff from NOAA Enforcement/VMS. The Council also will receive an update about Northeast Regional Ocean Council activities. Prior to the lunch break, an open period for public comments is scheduled during which any interested party may provide brief remarks on issues relevant to Council business but not listed on the meeting agenda.

During the afternoon session the Council will receive a report from the Northeast Fisheries Science Center staff summarizing the findings of the 56th Stock Assessment Workshop/Stock Assessment Review Committee meetings. The species addressed were surf calms and ocean quahogs and white hake. The Transboundary Management Guidance Committee will brief the Council on its February intersessional meeting held to discuss quota trading, assessment timing, alternative management strategies and the U.S./Canada Resource Sharing Understanding. The Groundfish Committee report will follow and include: an update on the development of Amendment 18 to the Northeast Multispecies Fishery Management Plan (FMP); a presentation by the Northeast Fisheries Science Center's Social Sciences Branch on its fishing year 2011 Groundfish Report; and a discussion about cod catch reporting in the Eastern Georges Bank Area.

Wednesday, April 24, 2013

The Council will begin its second day of meetings with a brief update on recent recommendations concerning habitat management areas, dedicated habitat research areas, and the inclusion of gear modification measures in the Omnibus Habitat Amendment 2. Following this report, the Council will continue to address groundfish management issues as it discusses recent correspondence that requests a review of the impacts of climate change on groundfish status determination criteria and catch advice and any follow up action. Additionally, Council members will consider Groundfish Committee recommendations for new alternatives in Omnibus Habitat Amendment 2 that would improve conservation of juvenile groundfish habitat and protect concentrations of large spawning groundfish. These new area alternatives could replace some or all of the status quo year-round groundfish closed areas and rolling closures. After the April Council meeting, the groundfish management alternatives will be consolidated and possibly combined with the existing habitat and dedicated habitat research areas that have been proposed by the Habitat Committee.

Thursday, April 25, 2013

The NEFMC's Monkfish Committee will review the development of Amendment 6 to the Monkfish Fishery Management Plan (FMP). This report also will include a review of the April 2013 update assessment. Under this agenda item the Council also may discuss the ability of NOAA Fisheries to provide data that adequately supports a monkfish sector or ITQ program. The Scallop Committee will initiate Framework Adjustment 25 to the Atlantic Sea Scallop FMP (specifications for fishing year 2014 and default measures for 2015). The action will include accountability measures for windowpane flounder, among other issues. The Council also will approve priorities for inclusion in the upcoming scallop research set-aside program announcement that will detail future funding opportunities for sea scallop-related research. The Enforcement Committee will review recommendations for possible approval concerning sector managers and joint liability; gear marking requirements across all FMPs; small, seasonal closed areas; and allowing vessels to simultaneously carry nets with different mesh sizes for different fisheries in the regulated mesh areas. Prior to a lunch break, the NOAA Fisheries Northeast Regional Office will present a Draft Environmental Assessment on Standard Bycatch Reporting Methodology and seek approval to finalize proposals for public review. The day will conclude with an initial discussion about Magnuson-Stevens Act reauthorization priorities.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: April 2, 2013.
William D. Chappell,
Acting Deputy Director, Office of Sustainable Fisheries, National Marine Fisheries Service.

[FR Doc. 2013-07979 Filed 4-4-13; 8:45 am]

BILLING CODE 3510-22-P